DEPARTMENT OF TRANSPORTATION

Federal Aviation Administration

14 CFR Part 39

[Docket No. FAA-2020-1165; Project Identifier 2019-SW-027-AD; Amendment 39-21499; AD 2021-08-05]

RIN 2120-AA64

Airworthiness Directives; Airbus Helicopters

AGENCY: Federal Aviation Administration (FAA), DOT.

ACTION: Final rule.

SUMMARY: The FAA is adopting a new airworthiness directive (AD) for certain Airbus Helicopters Model SA341G and SA342J helicopters. This AD was prompted by the determination that a new life limit was necessary for certain tail rotor blades (TRBs). This AD requires replacing certain TRBs, re-identifying certain TRBs, and repairing certain other TRBs, as specified in a European Union Aviation Safety Agency (EASA) AD, which is incorporated by reference. The FAA is issuing this AD to address the unsafe condition on these products.

DATES: This AD is effective June 1, 2021.

The Director of the Federal Register approved the incorporation by reference of a certain publication listed in this AD as of June 1, 2021.

ADDRESSES: For material incorporated by reference (IBR) in this AD, contact the EASA, Konrad-Adenauer-Ufer 3, 50668 Cologne, Germany; telephone +49 221 8999 000; email ADs@easa.europa.eu; internet www.easa.europa.eu. You may find this material on the EASA website at https://ad.easa.europa.eu. You may view this material at the FAA, Office of the Regional Counsel, Southwest Region, 10101 Hillwood Pkwy., Room 6N-321, Fort Worth, TX 76177. For information on the availability of this material at the FAA, call 817-222-5110. It is also available in the AD docket on the internet at https://www.regulations.gov by searching for and locating Docket No. FAA-2020-1165.

Examining the AD Docket

You may examine the AD docket on the internet at https://www.regulations.gov by searching for and locating Docket No. FAA-2020-1165; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Blaine Williams, Aerospace Engineer, Los Angeles ACO Branch, 3960 Paramount Blvd., Lakewood, California, 90712; telephone (562) 627-5371; email blaine.williams@faa.gov.

SUPPLEMENTARY INFORMATION:

Discussion

The EASA, which is the Technical Agent for the Member States of the European Union, has issued EASA AD 2019-0034, dated February 14, 2019 (EASA AD 2019-0034) (also referred to as the Mandatory Continuing Airworthiness Information, or the MCAI), to correct an unsafe condition for all Airbus Helicopters Model SA341G and SA342J helicopters. Although EASA AD 2019-0034 applies to all Model SA341G and SA342J helicopters, this AD applies to helicopters with an affected part installed instead.

The FAA issued a notice of proposed rulemaking (NPRM) to amend 14 CFR part 39 by adding an AD that would apply to certain Airbus Helicopters Model SA341G and SA342J helicopters. The NPRM published in the Federal Register on December 28, 2020 (85 FR 84275). The NPRM was prompted by the determination that a new life limit was necessary for certain TRBs. The NPRM proposed to require replacing certain TRBs, re-identifying certain TRBs, and repairing certain other TRBs, as specified in an EASA AD.

The FAA is issuing this AD to address TRBs that might break, resulting in loss of tail rotor control and consequent loss of control of the helicopter. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2019-0034 describes procedures for replacing TRBs having certain part numbers, re-identifying TRBs having a certain part number and certain serial numbers, and repairing TRBs that have been reworked/repaired/modified before being re-identified.

This material is reasonably available because the interested parties have access to it through their normal course of business or by the means identified in the ADDRESSES section.

Costs of Compliance

The FAA estimates that this AD affects 20 helicopters of U.S. registry. The FAA estimates the following costs to comply with this AD:

Estimated Costs for Required Actions
Labor cost | Parts cost | Cost per product | Cost on U.S. operators
1 work-hour × $85 per hour = $85 | $3,900 | $3,985 | $79,700

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-08-05 Airbus Helicopters: Amendment 39-21499; Docket No. FAA-2020-1165; Project Identifier 2019-SW-027-AD.

(a) Effective Date

This airworthiness directive (AD) is effective June 1, 2021.

(b) Affected ADs

None.

(c) Applicability

This AD applies to Airbus Helicopters Model SA341G and SA342J helicopters, certificated in any category, equipped with any tail rotor blade (TRB) specified in paragraph (c)(1) or (2) of this AD.

(1) An affected part as defined in European Union Aviation Safety Agency (EASA) AD 2019-0034, dated February 14, 2019 (EASA AD 2019-0034).

(2) A TRB having part number (P/N) 341A335101.01, P/N 341A335130.05, or P/N 341A335130.06.

(d) Subject

Joint Aircraft System Component (JASC) Code 6410, Tail Rotor Blades.

(e) Reason

This AD was prompted by the determination that a new life limit was necessary for TRBs that were manufactured without a new process that affects the structural characteristics. The FAA is issuing this AD to address TRBs that might break, resulting in loss of tail rotor control and consequent loss of control of the helicopter.

(f) Compliance

Comply with this AD within the compliance times specified, unless already done.

(g) Requirements

Except as specified in paragraph (h) of this AD: Comply with all required actions and compliance times specified in, and in accordance with, EASA AD 2019-0034.

(h) Exceptions to EASA AD 2019-0034

(1) Where EASA AD 2019-0034 refers to its effective date, this AD requires using the effective date of this AD.

(2) The “Remarks” section of EASA AD 2019-0034 does not apply to this AD.

(3) Where EASA AD 2019-0034 refers to flight hours (FH), this AD requires using hours time-in-service.

(4) Where paragraph (4) of EASA AD 2019-0034 specifies to contact the manufacturer, for this AD, repair using a method approved by the Manager, Strategic Policy Rotorcraft Section, FAA. For a repair method to be approved by the Manager, Strategic Policy Rotorcraft Section, as required by this paragraph, the Manager's approval letter must specifically refer to this AD.

(5) Where paragraph (5) of EASA AD 2019-0034 specifies it must be determined that the rework/repair/modification is valid for part number 341A335130.06, for this AD, rework/repair/modification of an affected part is prohibited.

(i) Special Flight Permit

Special flight permits, as described in 14 CFR 21.197 and 21.199, are not allowed.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Blaine Williams, Aerospace Engineer, Los Angeles ACO Branch, 3960 Paramount Blvd., Lakewood, California, 90712; telephone (562) 627-5371; email blaine.williams@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2019-0034, dated February 14, 2019.

(ii) [Reserved]

(3) For EASA AD 2019-0034, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2020-1165.

(5) You may view this material that is incorporated by reference at the National Archives and Records Administration (NARA). For information on the availability of this material at NARA, email fedreg.legal@nara.gov, or go to https://www.archives.gov/federal-register/cfr/ibr-locations.html.

Issued on March 30, 2021.
Ross Landes,
Deputy Director for Regulatory Operations, Compliance & Airworthiness Division, Aircraft Certification Service.

[FR Doc. 2021-08564 Filed 4-23-21; 8:45 am]

BILLING CODE 4910-13-P